FEDERAL TRADE COMMISSION

16 CFR Part 305

RIN 3084-AA74

Appliance Labeling Rule

AGENCY: Federal Trade Commission (“FTC” or “Commission”).

ACTION: Correcting amendments.

SUMMARY: The Commission is issuing technical corrections to the Appliance Labeling Rule (16 CFR part 305). These corrections are necessary to ensure that amendatory language published on July 19, 2010 (75 FR 41696) and scheduled to become effective on January 1, 2012 is consistent with recently codified Rule amendments.

DATES: Effective January 1, 2012.

ADDRESSES: Requests for copies of this document are available from: Public Reference Branch, Room 130, Federal Trade Commission, 600 Pennsylvania Avenue NW., Washington, DC 20580. The complete record of this proceeding is also available at that address. Relevant portions of the proceeding, including this document, are available at http://www.ftc.gov.

FOR FURTHER INFORMATION CONTACT: Hampton Newsome, (202) 326-2889, Attorney, Division of Enforcement, Bureau of Consumer Protection, Federal Trade Commission, 600 Pennsylvania Avenue NW., Washington, DC 20580.

SUPPLEMENTARY INFORMATION: Over the last two years, the Commission has issued amendments to its Appliance Labeling Rule (16 CFR part 305) in two separate Federal Register Notices involving: (1) Light bulbs (75 FR 41696 (July 19, 2010)), and (2) television labels (76 FR 1038 (Jan. 6, 2011)). The effective dates of these two final rules differ. The television label amendments, published on January 6, 2011, became effective on May 10, 2011 while the earlier light bulbs amendments will not become effective until January 1, 2012.¹ As a result, two amendatory instructions in the earlier light bulb notice are not consistent with the Rule's current language as amended by the television Notice. In a separate notice, the Commission has issued a correction removing the obsolete instructions from the July 19, 2010 notice. Now, the Commission revises the Rule's language to ensure its accuracy. In doing so, the Commission is also correcting an inadvertent error in the definition of “incandescent lamp.” ² Otherwise, the corrections in this Notice contain no substantive changes to the previously announced Rule amendments.

¹ Though the July 19, 2010 notice set the effective date as July 19, 2011, the Commission subsequently changed that date to January 1, 2012. See 76 FR 20233 (April 12, 2011).

² The definition of “incandescent lamp” in the published Federal Register Notice contained an inadvertent error stating that the diameter of covered reflector lamps exceeds “2.75 inches” (§ 305.3(n)(1)(ii)). The correct number, consistent with the underlying statute, is “2.25 inches.” See 42 U.S.C. 6291(30)(C); and 75 FR at 41699, n. 18, and 41713.

List of Subjects in 16 CFR Part 305

Advertising, Energy conservation, Household appliances, Labeling, Reporting and recordkeeping requirements.

For the reasons stated above, the Federal Trade Commission amends 16 CFR part 305 as follows:

PART 305—[AMENDED]

1. The authority citation for part 305 continues to read as follows:

Authority: 42 U.S.C. 6294.

2. In § 305.3, paragraphs (l) and (m) are revised, paragraphs (n), (o), (p), (q), (r), (s), (t), and (u) are redesignated as (r), (s), (t), (u), (v), (w), (x), and (y) respectively, and new paragraphs (n), (o), (p), and (q) are added to read as follows:

§ 305.3 Description of covered products.

* * * * *

(l) General service lamp means:

(1) A lamp that is:

(i) A medium base compact fluorescent lamp;

(ii) A general service incandescent lamp;

(iii) A general service light-emitting diode (LED or OLED) lamp; or

(iv) Any other lamp that the Secretary of Energy determines is used to satisfy lighting applications traditionally served by general service incandescent lamps.

(2) Exclusions. The term general service lamp does not include—

(i) Any lighting application or bulb shape described in paragraphs (n)(3)(ii)(A) through (T) of this section; and

(ii) Any general service fluorescent lamp.

(m) Medium base compact fluorescent lamp means an integrally ballasted fluorescent lamp with a medium screw base, a rated input voltage range of 115 to 130 volts and which is designed as a direct replacement for a general service incandescent lamp; however, the term does not include—

(1) Any lamp that is:

(i) Specifically designed to be used for special purpose applications; and

(ii) Unlikely to be used in general purpose applications, such as the applications described in the definition of “General Service Incandescent Lamp” in paragraph (n)(3)(ii) of this section; or

(2) Any lamp not described in the definition of “General Service Incandescent Lamp” in this section and that is excluded by the Department of Energy, by rule, because the lamp is—

(i) Designed for special applications; and

(ii) Unlikely to be used in general purpose applications.

(n) Incandescent lamp:

(1) Means a lamp in which light is produced by a filament heated to incandescence by an electric current, including only the following:

(i) Any lamp (commonly referred to as lower wattage nonreflector general service lamps, including any tungsten halogen lamp) that has a rated wattage between 30 and 199 watts, has an E26 medium screw base, has a rated voltage or voltage range that lies at least partially within 115 and 130 volts, and is not a reflector lamp;

(ii) Any lamp (commonly referred to as a reflector lamp) which is not colored or designed for rough or vibration service applications, that contains an inner reflective coating on the outer bulb to direct the light, an R, PAR, ER, BR, BPAR, or similar bulb shapes with E26 medium screw bases, a rated voltage or voltage range that lies at least partially within 115 and 130 volts, a diameter which exceeds 2.25 inches, and has a rated wattage that is 40 watts or higher;

(iii) Any general service incandescent lamp (commonly referred to as a high- or higher wattage lamp) that has a rated wattage above 199 watts (above 205 watts for a high wattage reflector lamp); but

(2) Incandescent lamp does not mean any lamp excluded by the Secretary of Energy, by rule, as a result of a determination that standards for such lamp would not result in significant energy savings because such lamp is designed for special applications or has special characteristics not available in reasonably substitutable lamp types;

(3) General service incandescent lamp means:

(i) In general, a standard incandescent, halogen, or reflector type lamp that—

(A) Is intended for general service applications;

(B) Has a medium screw base;

(C) Has a lumen range of not less than 310 lumens and not more than 2,600 lumens; and

(D) Is capable of being operated at a voltage range at least partially within 110 and 130 volts.

(ii) Exclusions. The term “general service incandescent lamp” does not include the following incandescent lamps:

(A) An appliance lamp as defined at 42 U.S.C. 6291(30);

(B) A black light lamp;

(C) A bug lamp;

(D) A colored lamp as defined at 42 U.S.C. 6291(30);

(E) An infrared lamp;

(F) A left hand thread lamp;

(G) A marine lamp;

(H) A marine signal service lamp;

(I) A mine service lamp;

(J) A plant light lamp;

(K) A rough service lamp as defined at 42 U.S.C. 6291(30);

(L) A shatter resistant lamp (including a shatter-proof lamp and a shatter-protected lamp);

(M) A sign service lamp;

(N) A silver bowl lamp;

(O) A showcase lamp;

(P) A traffic signal lamp;

(Q) A vibration service lamp as defined at 42 U.S.C. 6291(30);

(R) A G shape lamp (as defined in ANSI C78.20-2003 and C79.1-2002) with a diameter of 5 inches or more;

(S) A T shape lamp (as defined in ANSI C78.20-2003 and C79.1-2002) and that uses not more than 40 watts or has a length of more than 10 inches; or

(T) A B, BA, CA, F, G16-1/2, G-25, G-30, S, or M-14 lamp (as defined in ANSI C79.1-2002 and ANSI C78.20-2003) of 40 watts or less.

(4) Incandescent reflector lamp means a lamp described in paragraph (n)(1)(ii) of this section; and

(5) Tungsten halogen lamp means a gas filled tungsten filament incandescent lamp containing a certain proportion of halogens in an inert gas.

(o) Light emitting diode (LED) means a p n junction solid state device the radiated output of which is a function of the physical construction, material used, and exciting current of the device. The output of a light emitting diode may be in B

(1) The infrared region;

(2) The visible region; or

(3) The ultraviolet region.

(p) Organic light emitting diode (OLED) means a thin-film light-emitting device that typically consists of a series of organic layers between 2 electrical contacts (electrodes).

(q) General service light-emitting diode (LED or OLED) lamp means any light emitting diode (LED or OLED) lamp that:

(1) Is a consumer product;

(2) Is intended for general service applications;

(3) Has a medium screw base;

(4) Has a lumen range of not less than 310 lumens and not more than 2,600 lumens; and

(5) Is capable of being operated at a voltage range at least partially within 110 and 130 volts.

* * * * *

3. Amend Appendix L as follows:

a. Add Prototype Labels 5, 6, and 7 after Prototype Label 4;

b. Remove all sections labeled “Lamp Packaging Disclosures”;

c. Redesignate Sample Labels 10, 11, 12, and Sample Icon 13 as Sample Labels 14, 15, 16, and Sample Icon 17 respectively; and

d. Add Sample Labels 10, 11, 12, and 13 after Sample Label 9 as follows:

Appendix L to Part 305—Sample Labels

* * * * *

BILLING CODE P

* * * * *

Donald S. Clark,
Secretary.

[FR Doc. 2011-32261 Filed 12-20-11; 8:45 am]

BILLING CODE C